ENVIRONMENTAL PROTECTION AGENCY

40 CFR Part 52

[VA084/101-5045b; FRL-6563-1]

Approval and Promulgation of Air Quality Implementation Plans; Virginia; Proposed Revised Format for Materials Being Incorporated by Reference; Proposed Approval of Recodification of the Virginia Administrative Code

AGENCY: Environmental Protection Agency (EPA).

ACTION: Proposed rule.

SUMMARY: EPA proposes to approve the State Implementation Plan (SIP) revision submitted by the Virginia Department of Environmental Quality. These submittals include miscellaneous revisions and recodification of Virginia's air pollution control regulations. This proposed recodification reorganizes and renumbers the Virginia SIP to match the numbering system set forth in the Virginia Administrative Code. EPA also proposes to revise the format of regulations for materials submitted by Virginia that are incorporated by reference (IBR) into their respective State implementation plans (SIPs). The regulations affected by this format change have all been previously submitted by the respective State agency and approved by EPA.

In the Final Rules section of this Federal Register, EPA is approving the State's SIP submittal as a direct final rule without prior proposal because the Agency views this as a noncontroversial submittal and anticipates no adverse comments. A detailed rationale for the approval is set forth in the direct final rule and a Technical Support Document (TSD) prepared in support of this rulemaking action. A copy of the TSD is available, upon request, from the EPA Regional Office listed in the ADDRESSES section of this document. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by May 22, 2000.

ADDRESSES: Written comments should be addressed to Marcia L. Spink, Mailcode 3AP20, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Virginia Department of Environmental Quality, 629 East Main Street, Richmond, Virginia, 23219.

FOR FURTHER INFORMATION CONTACT: Harold A. Frankford, (215) 814-2108 at the EPA Region III address above, or by e-mail at fankford.harold@epa.gov.

SUPPLEMENTARY INFORMATION: For further information, please see the information provided in the direct final action, with the same title, that is located in the “Rules and Regulations” section of this Federal Register publication.

Dated: March 6, 2000.
Bradley M. Campbell,
Regional Administrator, Region III.

[FR Doc. 00-9536 Filed 4-20-00; 8:45 am]

BILLING CODE 6560-50-P